ENVIRONMENTAL PROTECTION AGENCY

40 CFR Part 52

[EPA-R05-OAR-2024-0105; EPA-R05-OAR-2024-0320; FRL-12240-02-R5]

Air Plan Approval; Illinois; NAAQS Update

AGENCY: Environmental Protection Agency (EPA).

ACTION: Direct final rule.

SUMMARY: The Environmental Protection Agency (EPA) is approving State Implementation Plan (SIP) revisions submitted by the Illinois Environmental Protection Agency (IEPA or Illinois). The revisions, submitted on February 26, 2024, and July 8, 2024, incorporate amendments to the Illinois air pollution control rules entitled “Part 243—Ambient Air Quality Standards” in response to EPA rulemakings and changes to the National Ambient Air Quality Standards (NAAQS) that EPA adopted in 2022 and 2023.

DATES: This direct final rule will be effective December 2, 2024, unless EPA receives adverse comments by November 4, 2024. If adverse comments are received, EPA will publish a timely withdrawal of the direct final rule in the Federal Register informing the public that the rule will not take effect.

ADDRESSES: Submit your comments, identified by Docket ID No. EPA-R05-OAR-2024-0105 at https://www.regulations.gov, or via email to arra.sarah@epa.gov. For comments submitted at Regulations.gov, follow the online instructions for submitting comments. Once submitted, comments cannot be edited or removed from the docket. EPA may publish any comment received to its public docket. Do not submit electronically any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Mayesha Choudhury, Air and Radiation Division (AR-18J), Environmental Protection Agency, Region 5, 77 West Jackson Boulevard, Chicago, Illinois 60604, (312) 886-5909, choudhury.mayesha@epa.gov. The EPA Region 5 office is open from 8:30 a.m. to 4:30 p.m., Monday through Friday, excluding Federal holidays.

SUPPLEMENTARY INFORMATION: Throughout this document whenever “we,” “us,” or “our” is used, we mean EPA.

I. Background

A. Illinois Submittals

On February 26 and July 8, 2024, IEPA submitted revisions to the SIP that update Part 243 in Title 35 of the Illinois Administrative Code (IAC). The SIP submissions update section 243.108 of Title 35 by incorporating EPA's updated “List of Designated Reference and Equivalent Methods,” which is used to determine compliance with the NAAQS (fine particulate matter and coarse particulate matter, sulfur dioxide (SO2), carbon monoxide, lead, oxides of nitrogen, and ozone). The February 2024 submission includes EPA's designation of one new equivalent method for measuring concentrations of fine particulate matter (PM2.5) in ambient air.¹ This designation was enacted and effective on October 5, 2023. The July 2024 submission incorporates EPA's designation of a new equivalent method for measuring Particulate Matter (PM10) in ambient air, also found in section 243.108.² The designation was enacted and effective May 16, 2024.

¹ See 87 FR 65203 (October 28, 2022).

² See 88 FR 76212 (November 6, 2023).

The July 2024 submission also incorporates references to EPA's updated ozone absorption cross-section value,³ which is a standard parameter used to measure concentrations of ozone, and makes corrections to section 243.125(b)(3) to reflect word style used by EPA in past NAAQS amendments.

³ See 88 FR 70595 (October 12, 2023).

B. List of Designated and Reference Equivalent Methods

EPA evaluates various methods for monitoring the concentrations of criteria pollutants under the NAAQS. Equivalent methods for measuring criteria pollutants are designated by EPA as monitoring methods that meet specific requirements for determining compliance with the NAAQS under 40 CFR part 58.

On October 28, 2022, EPA designated one new equivalent method for measuring concentrations of PM2.5 in ambient air.⁴ The new method, EQPM-0922-260 “Ambilabs Model 2WIN PM2.5 FEM Monitor,” is an automated method (analyzer) utilizing an optically based measurement principle.

⁴ See supra note 1.

On November 6, 2023, EPA designated a new equivalent method for measuring concentrations of PM10 in ambient air.⁵ The new method, EQPM-0923-262 “Vashti Instruments Pvt. Ltd Vair-9009 p.m.10 Monitor,” is an automated monitoring method (monitor) utilizing the measurement principle based on beta-ray attenuation.

⁵ See supra note 2.

C. Update to Ozone Absorption Cross-Section Value

On October 5, 2023, EPA updated the ozone absorption cross-section value, which is used in ultraviolet-based ozone analyzers and Standard Reference Photometers. The new value represents an increased accuracy of surface ozone monitoring measurements and reduced uncertainty in ozone measured concentrations.⁶ EPA updated references in the regulations regarding this value ⁷ and Illinois's July 2024 submittal amends the existing corresponding state rules to provide consistency with the Federal regulations.

⁶ See supra note 3.

⁷ See 40 CFR part 50, appendix D—Reference Measurement Principle and Calibration Procedure for the Measurement of Ozone in the Atmosphere (Chemiluminescence Method).

II. What is EPA's analysis of the State's submittals?

Section 243.108—Incorporation by Reference incorporates EPA's updates to its “List of Designated Reference and Equivalent Methods” for measuring ambient concentrations to demonstrate compliance with the NAAQS. The SIP revision would update section 243.108 to incorporate the changes from EPA's actions dated October 28, 2022 (87 FR 65203) and November 6, 2023 (88 FR 76212).

Section 243.125—Ozone incorporates EPA's references to the updated ozone absorption cross-section value. The SIP revision would update word style in section 243.125 and would make a minor correction to a reference to an EPA regulation regarding the measurement of ozone (40 CFR part 50, appendix D).

EPA has reviewed the state revisions and finds that they are equivalent to EPA requirements and strengthen the Illinois SIP.

III. What action is EPA taking?

EPA is approving the revisions to 35 IAC 243.108 as outlined in Illinois' February 26, 2024, and July 8, 2024, submittals.

We are publishing this action without prior proposal because we view these as noncontroversial amendments and anticipate no adverse comments. However, in the proposed rules section of this Federal Register publication, we are publishing a separate document that will serve as the proposal to approve the state plan if relevant adverse written comments are filed. This rule will be effective December 2, 2024 without further notice unless we receive relevant adverse written comments by November 4, 2024. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 2, 2024.

IV. Incorporation by Reference

In this rule, EPA is finalizing regulatory text that includes incorporation by reference. In accordance with requirements of 1 CFR 51.5, EPA is finalizing the incorporation by reference of the Illinois regulations described in section I of this preamble and set forth in the amendments to 40 CFR part 52 below. EPA has made, and will continue to make, these documents generally available through www.regulations.gov and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.⁸

⁸ 62 FR 27968 (May 22, 1997).

V. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. EPA defines EJ as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

IEPA did not evaluate EJ considerations as part of its SIP submittals; the CAA and applicable implementing regulations neither prohibit nor require such an evaluation. EPA did not perform an EJ analysis and did not consider EJ in this action. Consideration of EJ is not required as part of this action, and there is no information in the record inconsistent with the stated goal of E.O. 12898 of achieving EJ for communities with EJ concerns.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by December 2, 2024. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Particulate matter, Ozone, Reporting and recordkeeping requirements.

Dated: September 27, 2024.
Debra Shore,
Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.720, the table in paragraph (c) is amended by revising the entries for “243.108” and “243.125” to read as follows:

§ 52.720 Identification of plan.

* * * * *

(c) * * *

EPA-Approved Illinois Regulations and Statutes
Illinois citation | Title/subject | State effective date | EPA approval date | Comments
* * * * * * *
243.108 | Incorporations by Reference | 5/16/2024 | 10/3/2024, [INSERT FIRST PAGE OF FEDERAL REGISTER CITATION] |
* * * * * * *
243.125 | Ozone | 5/16/2024 | 10/3/2024, [INSERT FIRST PAGE OF FEDERAL REGISTER CITATION] |
* * * * * * *

* * * * *

[FR Doc. 2024-22730 Filed 10-2-24; 8:45 am]

BILLING CODE 6560-50-P